DEPARTMENT OF HEALTH AND HUMAN SERVICES

Meeting of the Presidential Advisory Council on HIV/AIDS

AGENCY: Office of the Assistant Secretary for Health, Office of the Secretary, Department of Health and Human Services.

ACTION: Notice of meeting.

SUMMARY: As stipulated by the Federal Advisory Committee Act, the U.S. Department of Health and Human Service is hereby giving notice that the Presidential Advisory Council on HIV/AIDS (PACHA or the Council) will be holding the 67th full Council meeting utilizing virtual technology. The meeting will be open to the public; a public comment session will be held during the meeting. Pre-registration is required for both public participation and comment.

Individuals who wish to participate in the meeting and/or provide public comment should pre-register by sending an email to PACHA@hhs.gov. Individuals will be required to provide their name, organization, and email address to pre-register. Agenda items will include discussing the 2019 novel coronavirus (COVID-19) and the impact on people living with, or at risk of, HIV and implementing the Ending the HIV Epidemic initiative post COVID-19. The meeting agenda will be posted on the PACHA website at https://www.hiv.gov/federal-response/pacha/about-pacha as soon as it becomes available.

DATES: The meeting will be held on Monday, June 1, 2020, from approximately 2:00 p.m. to 5:00 p.m. (ET) and on Tuesday, June 2, 2020 from approximately 2:00 p.m. to 5:00 p.m. (ET). This meeting will be conducted utilizing virtual technology.

ADDRESSES: Instructions regarding attending this meeting virtually will be posted one week prior to the meeting at: https://www.hiv.gov/federal-response/pacha/about-pacha.

FOR FURTHER INFORMATION CONTACT: Ms. Caroline Talev, MPA, Public Health Analyst, Presidential Advisory Council on HIV/AIDS, 330 C Street SW, Room L609A, Washington, DC 20024; (202) 795-7622 or PACHA@hhs.gov. Additional information can be obtained by accessing the Council's page on the HIV.gov site at www.hiv.gov/pacha.

SUPPLEMENTARY INFORMATION: PACHA was established by Executive Order 12963, dated June 14, 1995, as amended by Executive Order 13009, dated June 14, 1996 and is currently operating under the authority given in Executive Order 13889, dated September 27, 2019. The Council was established to provide advice, information, and recommendations to the Secretary regarding programs and policies intended to promote effective prevention and care of HIV infection and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House.

Dated: May 13, 2020.
B. Kaye Hayes,
Principal Deputy Director, Office of Infectious Disease and HIV/AIDS Policy, Office of the Assistant Secretary for Health.

[FR Doc. 2020-10639 Filed 5-18-20; 8:45 am]

BILLING CODE 4150-43-P